DEPARTMENT OF JUSTICE

[OMB Number 1121-0292]

Agency Information Collection Activities; Proposed eCollection eComments Requested; Extension, With Change, of a Currently Approved Collection; Survey of Sexual Victimization

AGENCY: Bureau of Justice Statistics, Department of Justice.

ACTION: 30-Day notice.

SUMMARY: The Department of Justice (DOJ), Bureau of Justice Statistics, will be submitting the following information collection request to the Office of Management and Budget (OMB) for review and approval in accordance with the Paperwork Reduction Act of 1995.

DATES: Comments are encouraged and will be accepted for 30 days until June 5, 2024.

FOR FURTHER INFORMATION CONTACT: If you have comments especially on the estimated public burden or associated response time, suggestions, or need a copy of the proposed information collection instrument with instructions or additional information, please contact: Emily Buehler, Bureau of Justice Statistics, 810 Seventh Street NW, Washington, DC 20531 (email: Emily.Buehler@usdoj.gov; telephone: 202-598-1036).

SUPPLEMENTARY INFORMATION: The proposed information collection was previously published in the Federal Register on February 12, 2024, allowing a 60-day comment period.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number [1121-0292]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension, with changes, of a currently approved collection.

2. Title of the Form/Collection: Survey of Sexual Victimization (SSV).

3. Agency form number, if any, and the applicable component of the Department of Justice sponsoring the collection: Summary Forms: SSV-1, SSV-2, SSV-3, SSV-4, SSV-5, SSV-6. Incident Forms: SSV-IA, SSV-IJ. Bureau of Justice Statistics, Department of Justice.

4. Affected public who will be asked or required to respond, as well as a brief abstract: Respondents will include the Federal Bureau of Prisons; state prison and juvenile justice systems; private prisons; correctional facilities operated by the U.S. Military and U.S. Immigration and Customs Enforcement; local, private and tribal jails; local and private juvenile justice facilities; and juvenile facilities in Indian country.

5. Obligation to Respond: The obligation to respond is required under the Prison Rape Elimination Act of 2003 (Pub. L. 108-79).

6. Total Estimated Number of Respondents: 4,492 total responses received (1,492 summary forms and 3,000 incident forms).

7. Estimated Time per Respondent: Varies from 30 minutes to 1 hour per summary form; 40 minutes per incident form.

8. Frequency: Once a year.

9. Total Estimated Annual Time Burden: 3,047 hours.

10. Total Estimated Annual Other Costs Burden: PREA requires facilities to track the data collected in SSV. No costs other than the cost of the hour burden exist for this data collection.

If additional information is required, contact: Darwin Arceo, Department Clearance Officer, Policy and Planning Staff, Justice Management Division, United States Department of Justice, Two Constitution Square, 145 N Street NE, 4W-218, Washington, DC 20530.

Dated: April 30, 2024.
Darwin Arceo,
Department Clearance Officer for PRA, U.S. Department of Justice.

[FR Doc. 2024-09726 Filed 5-3-24; 8:45 am]

BILLING CODE 4410-18-P